INTERNATIONAL TRADE COMMISSION

Sanction for Dissemination of “ITC Questionnaire Tip Sheet''

AGENCY: U.S. International Trade Commission.

ACTION: Sanction for dissemination of “ITC Questionnaire Tip Sheet''.

SUMMARY: Notice is hereby given of the sanction imposed by the Commission for the dissemination of a document entitled “ITC Questionnaire Tip Sheet” by Sanford B. Ring, Esq. of the law firm of Dykema Gossett to a client and a non-client in Steel Consuming Industries: Competitive Conditions With Regard to Steel Safeguard Measures, Inv. No. 332-452. The Commission found that there was good cause to sanction Ring, pursuant to 19 CFR 201.15(a), because the tip sheet went beyond the boundaries of appropriate guidance for clients and non-clients regarding their responses to Commission questionnaires. The Commission believes it is important to maintain the integrity of its investigations and to ensure that questionnaire responses in a fact-finding Commission investigation will be accurate and not inappropriately influenced by counsel seeking to support his or her view of the facts in an investigation.

FOR FURTHER INFORMATION CONTACT: Carol McCue Verratti, Esq., Office of the General Counsel, U.S. International Trade Commission, 500 E Street, SW, Washington, DC 20436, telephone 202-205-3088. Hearing impaired individuals are advised that information on this matter can be obtained by contacting the Commission's TDD terminal at 202-205-1810. General information concerning the Commission can also be obtained by accessing its Internet server (http://www.usitc.gov).

SUPPLEMENTARY INFORMATION: In connection with the Steel Consuming Industries investigation, Mr. Ring drafted and transmitted an “ITC Questionnaire Tip Sheet” to his client, the Motor and Equipment Manufacturers Association (“MEMA”). Ring also transmitted the tip sheet to a non-client, the National Electrical Manufacturers Association (“NEMA”). Both MEMA and NEMA acknowledge that they electronically transmitted the tip sheet to a group of firms and associations. The tip sheet is a document that aggressively and inappropriately coaches questionnaire respondents on how to complete the questionnaires in the Steel Consuming Industries investigation. We note at the outset that some information the Commission considered in this matter cannot be discussed as it has been given confidential treatment, as requested by Mr. Ring.

The Commission has found the tip sheet contains inappropriate coaching of questionnaire respondents in fact-finding investigations, such as a section 332 investigation, because it is worded in a manner that encourages misleading responses to the questionnaires. The first sentence of the tip sheet states that “the overriding goal is to tell a compelling story.” The second paragraph states that “[w]e want to demonstrate that the adverse impact of the tariffs on steel users has been great, and that it will be even worse going forward. It is important to bear this point in mind as you answer the questions—your projections for the future should be even more bleak than what has happened to date.” (Emphasis in the original). The tip sheet encourages the respondent to use estimates “if information is not readily available from your records in exactly the form requested” and to resolve estimates “in favor of a more compelling story.” In addition, regarding projections in the future, the tip sheet encourages the respondent to be “creative and “extrapolative.”” There is no statement in the tip sheet that reminds the respondents that their responses must be true and accurate other than to suggest that they read the ITC instruction booklets prior to completing the questionnaires.

The Commission finds the tip sheet to be an entirely inappropriate form of coaching questionnaire respondents in a fact-finding section 332 investigation.

Sanford B. Ring is reprimanded for drafting the tip sheet and disseminating it to a client and non-client in the Steel Consuming Industries investigation.

The authority for this action is conferred by §201.15(a) of the Commission's rules of practice and procedure (19 CFR 201.15(a)).

Issued: September 24, 2003.
By order of the Commission.
Marilyn R. Abbott,
Secretary.

[FR Doc. 03-24805 Filed 9-30-03; 8:45 am]

BILLING CODE 7020-02-P